DEPARTMENT OF THE INTERIOR

Bureau of Land Management

[AZ-910-0777-XP-241A]

State of Arizona Resource Advisory Council Meeting

AGENCY: Bureau of Land Management, Interior.

ACTION: Arizona Resource Advisory Council meeting notice.

SUMMARY: This notice announces a meeting of the Arizona Resource Advisory Council (RAC).

The business meeting will be held on March 2, 2006, in Tucson, Arizona, at the Doubletree Hotel—Tucson Reid Park located at 445 South Alvernon Way. It will begin at 9:30 a.m. and conclude at 4:30 p.m. The agenda items to be covered include: Review of the December 6, 2005 Meeting Minutes; BLM State Director's Update on Statewide Issues; Presentation on Geo-Tourism—National Geographic and Sonoran Institute Partnership, Updates on the Recreation Resource Advisory Committees, Recreation Use Fees, Saginaw Hill, and Arizona Land Use Planning; RAC Questions on Written Reports from BLM Field Managers; Field Office Rangeland Resource Team Proposals; RAC Discussion on the Annual Work Plan Review; Reports by the Standards and Guidelines, Recreation, Off-Highway Vehicle Use, Public Relations, Land Use Planning and Tenure, and Wild Horse and Burro Working Groups; Reports from RAC members; and Discussion of future meetings. A public comment period will be provided at 11:30 a.m. on March 2, 2006, for any interested publics who wish to address the Council.

FOR FURTHER INFORMATION CONTACT: Deborah Stevens, Bureau of Land Management, Arizona State Office, One North Central Avenue, Suite 800, Phoenix, Arizona 85004-4427, (602) 417-9215.

Elaine Y. Zielinski,
Arizona State Director.

[FR Doc. 06-1201 Filed 2-8-06; 8:45 am]

BILLING CODE 4310-32-M